DEPARTMENT OF HEALTH AND HUMAN SERVICES

Centers for Disease Control and Prevention

Disease, Disability, and Injury Prevention and Control Special Emphasis Panel: Occupational Health and Safety Research, Member Conflict, Program Announcement (PA) 04-038

In accordance with section 10(a)(2) of the Federal Advisory Committee Act (Pub. L. 92-463), the Centers for Disease Control and Prevention (CDC) announces a meeting of the aforementioned Special Emphasis Panel.

Time and Date: 1 p.m.-2:30 p.m., November 28, 2006 (Closed).

Place: Teleconference. National Institute for Occupational Safety and Health, CDC, 2400 Century Parkway, NE., Atlanta, GA 30345.

Status: The meeting will be closed to the public in accordance with provisions set forth in section 552b(c) (4) and (6), Title 5 U.S.C., and the Determination of the Director, Management Analysis and Services Office, CDC, pursuant to Public Law 92-463.

Matters To Be Discussed: The meeting will include the review, discussion, and evaluation of research grant applications in response to “Occupational Health and Safety Research,” PA 04-038.

For Further Information Contact: Charles N. Rafferty, Ph.D., Designated Federal Official, 100 Clifton Road, Mailstop E-74, Atlanta, GA 30333, telephone (404) 498-2582.

The Director, Management Analysis and Services Office, has been delegated the authority to sign Federal Register notices pertaining to announcements of meetings and other committee management activities, for both CDC and the Agency for Toxic Substances and Disease Registry.

Dated: November 8, 2006.
Alvin Hall,
Director, Management Analysis and Services Office, Centers for Disease Control and Prevention.

[FR Doc. E6-19235 Filed 11-14-06; 8:45 am]

BILLING CODE 4163-18-P